LIBRARY OF CONGRESS

Copyright Royalty Board

37 CFR Part 370

[Docket No. 14-CRB-0005 (RM)]

Notice and Recordkeeping for Use of Sound Recordings Under Statutory License

AGENCY: Copyright Royalty Board, Library of Congress.

ACTION: Extension of Comment Period.

SUMMARY: The Copyright Royalty Judges are extending the period for filing comments on Notice and Recordkeeping for Use of Sound Recordings Under Statutory License.

DATES: The comment period on the proposed rulemaking on Notice and Recordkeeping for Use of Sound Recordings Under Statutory License is extended to June 30.

ADDRESSES: The Copyright Royalty Board (CRB) prefers that comments and reply comments be submitted electronically to crb@loc.gov. In the alternative, commenters shall send a hard-copy original, five paper copies, and an electronic copy on a CD either by U.S. mail or hand delivery. The CRB will not accept multiple submissions from any commenter. Electronic documents must be in either PDF format containing accessible text (not an image); Microsoft Word; WordPerfect; Rich Text Format (RTF); or ASCII text file format (not a scanned document). Commenters MAY NOT submit comments and reply comments by an overnight delivery service other than the U.S. Postal Service Express Mail. If commenters choose to use the U.S. Postal Service (including overnight delivery), they must address their comments and reply comments to: Copyright Royalty Board, P.O. Box 70977, Washington, DC 20024-0977. If commenters choose hand delivery by a private party, they must direct their comments and reply comments to the Copyright Office Public Information Office, Library of Congress, James Madison Memorial Building, Room LM-401, 101 Independence Avenue SE., Washington, DC 20559-6000. If commenters choose delivery by commercial courier, they must direct their comments and reply comments to the Congressional Courier Acceptance Site located at 2nd and D Street NW., Washington, DC, on a normal business day between 8:30 a.m. and 4 p.m. The envelope must be addressed to: Copyright Royalty Board, Library of Congress, James Madison Memorial Building, LM-401, 101 Independence Avenue SE., Washington, DC 20559-6000.

FOR FURTHER INFORMATION CONTACT: LaKeshia Keys (202) 707-7658 or email at crb@loc.gov.

SUPPLEMENTARY INFORMATION:

Background

On May 2, 2014, the Copyright Royalty Judges (“Judges”) published a notice of proposed rulemaking (“NPRM”) seeking comment on two petitions for rulemaking.¹ Comments were due by June 2, 2014. Reply comments were due by June 16, 2014. On May 20, 2014, the National Association of Broadcasters (“NAB”) filed a motion with the Judges seeking a 21-day extension of the comment deadline. To support its request, NAB argues, among other things, that SoundExchange's petition is detailed and preparing a meaningful response will require extensive fact-finding. NAB also opines that there is no urgency in addressing SoundExchange's petition since the current regulations have been in place for years. Motion at 2.

¹ 79 FR 25038. One of the petitions was filed by SoundExchange, Inc. The other, which was styled as a motion for clarification, was filed by College Broadcasters, Inc., American Council on Education and Intercollegiate Broadcasting Systems, Inc. (“Petitioners”). As discussed in the Federal Register notice seeking comments on the proposals, the Judges view the Petitioners' proposal as seeking a substantive change in the regulations, and therefore treat the motion as a petition for rulemaking.

In the interests of providing an ample opportunity for all interested parties to prepare a meaningful response to the petitions, the Judges hereby extend the deadline for comments on the petitions to June 30, 2014. Reply comments, if any, should be filed no later than August 11, 2014.

Dated: May 22, 2014.
David R. Strickler,
Copyright Royalty Judge.
Approved by:
James H. Billington,
Librarian of Congress.

[FR Doc. 2014-13646 Filed 6-10-14; 8:45 am]

BILLING CODE 1410-72-P